DEPARTMENT OF ENERGY

Federal Energy Regulatory Commission

[EL14-22-000, EL14-23-000, EL14-24-000, et al.]

Notice of Institution of Section 206 Proceedings and Refund Effective Date

California Independent System Operator Corporation | Docket No. EL14-22-000
ISO New England, Inc | Docket No. EL14-23-000
PJM Interconnection, LLC | Docket No. EL14-24-000
Midcontinent Independent System Operator, Inc | Docket No. EL14-25-000
New York Independent System Operator, Inc | Docket No. EL14-26-000
Southwest Power Pool, Inc | Docket No. EL14-27-000

On March 20, 2014, the Commission issued an order in Docket Nos. EL14-22-000, et al., pursuant to section 206 of the Federal Power Act (FPA), 16 U.S.C. 824e (2012), instituting an investigation into the justness and reasonableness of independent system operators' (ISOs) and regional transmission organizations' (RTOs) day-ahead scheduling practices. California Independent System Operator Corporation, et al., 146 FERC ¶ 61,202 (2014).

The refund effective date in Docket Nos. EL14-22-000, et al., established pursuant to section 206(b) of the FPA, will be the date of issuance of the order establishing those proceedings.

Dated: March 20, 2014.
Nathaniel J. Davis, Sr.,
Deputy Secretary.

[FR Doc. 2014-06690 Filed 3-25-14; 8:45 am]

BILLING CODE 6717-01-P